DEPARTMENT OF COMMERCE

International Trade Administration

Amended Trade Mission Application Deadline to the Financial Technologies Business Development Mission to Singapore and Japan, With an Optional Stop in South Korea

AGENCY: International Trade Administration, Department of Commerce.

ACTION: Notice.

SUMMARY: The United States Department of Commerce, International Trade Administration (ITA), is organizing the Financial Technologies Business Development Mission to Singapore and Japan, with an optional stop in South Korea on November 13-20, 2023. This notice is to update the prior Federal Register notice to reflect that the application deadline is now extended to August 31, 2023.

FOR FURTHER INFORMATION CONTACT: Jeffrey Odum, Events Management Task Force, International Trade Administration, U.S. Department of Commerce, 1401 Constitution Avenue NW, Washington, DC 20230; telephone (202) 482-6397 or email Jeffrey.Odum@trade.gov.

SUPPLEMENTARY INFORMATION: Amendment to Revise the Trade Mission Deadline for Submitting Applications.

Background

Financial Technologies Business Development Mission to Singapore and Japan, With an Optional Stop in South Korea

The International Trade Administration has determined that to allow for optimal execution of recruitment the application deadline has been extended from July 21, 2023, to August 31, 2023. Applications may be accepted after that date if space remains and scheduling constraints permit. Interested U.S. companies and trade associations/organizations that have not already submitted an application are encouraged to do so. The U.S. Department of Commerce will review applications and make selection decisions on a rolling basis in accordance with the 88 FR 43297 (July 7, 2023). The applicants selected will be notified as soon as possible.

Contact

Peter Sexton, U.S. Commercial Service, U.S. Export Assistance Center—New York, NY, 212-809-2647, Peter.Sexton@trade.gov.

Gemal Brangman, Trade Events Management Task Force, Washington, DC, 202-482-3773, Gemal.Brangman@trade.gov.

Vincent Tran, Office of Finance & Insurance, Washington, DC, 202-713-0242, Vincent.Tran@trade.gov.

Gemal Brangman,
Director, Trade Events Management Task Force.

[FR Doc. 2023-18224 Filed 8-23-23; 8:45 am]

BILLING CODE 3510-DR-P